DEPARTMENT OF ENERGY

Federal Energy Regulatory Commission

Combined Notice of Filings #1

Take notice that the Commission received the following exempt wholesale generator filings:

Docket Numbers: EG13-12-000.

Applicants: Delano Energy Center, LLC.

Description: Notice of Self-Certification of Exempt Wholesale Generator Status of Delano Energy Center, LLC.

Filed Date: 1/25/13.

Accession Number: 20130125-5077.

Comments Due: 5 p.m. ET 2/15/13.

Docket Numbers: EG13-13-000.

Applicants: Alpaugh 50, LLC.

Description: Notice of Self-Certification of Exempt Wholesale Generator Status of Alpaugh 50, LLC.

Filed Date: 1/25/13.

Accession Number: 20130125-5174.

Comments Due: 5 p.m. ET 2/15/13.

Docket Numbers: EG13-14-000.

Applicants: Alpaugh North, LLC.

Description: Notice of Self-Certification of Exempt Wholesale Generator Status of Alpaugh North, LLC.

Filed Date: 1/25/13.

Accession Number: 20130125-5175.

Comments Due: 5 p.m. ET 2/15/13.

Take notice that the Commission received the following electric rate filings:

Docket Numbers: ER12-2124-000.

Applicants: Westar Energy, Inc.

Description: Supplement to the Triennial Market Power Report to be effective N/A.

Filed Date: 1/25/13.

Accession Number: 20130125-5093.

Comments Due: 5 p.m. ET 2/15/13.

Docket Numbers: ER13-780-002.

Applicants: New York Independent System Operator, Inc.

Description: NYISO refiling of errata to January 18, 2013 filing to be effective 3/20/2013.

Filed Date: 1/25/13.

Accession Number: 20130125-5197.

Comments Due: 5 p.m. ET 2/15/13.

Docket Numbers: ER13-802-000.

Applicants: New Energy Services LLC.

Description: New Energy Services, LLC Market Based Rate Tariff to be effective 3/1/2013.

Filed Date: 1/25/13.

Accession Number: 20130125-5202.

Comments Due: 5 p.m. ET 2/15/13.

Docket Numbers: ER13-803-000.

Applicants: MET MA LLC.

Description: Notice of Cancellation to be effective 1/25/2013.

Filed Date: 1/25/13.

Accession Number: 20130125-5203.

Comments Due: 5 p.m. ET 2/15/13.

Take notice that the Commission received the following land acquisition reports:

Docket Numbers: LA12-4-000.

Applicants: BP Energy Company, BP West Coast Products LLC, Cedar Creek Wind Energy, LLC, Cedar Creek II, LLC, Flat Ridge 2 Wind Energy LLC, Flat Ridge Wind Energy, LLC, Fowler Ridge II Wind Farm LLC, Fowler Ridge III Wind Farm LLC, Fowler Ridge Wind Farm LLC, Goshen Phase II LLC, Long Island Solar Farm LLC, Mehoopany Wind Energy LLC, Rolling Thunder I Power Partners, LLC, Watson Cogeneration Company, and Whiting Clean Energy, Inc.

Description: Quarterly Land Acquisition Report of BP Energy Company, Inc. et al.

Filed Date: 1/28/13.

Accession Number: 20130128-5130.

Comments Due: 5 p.m. ET 2/19/13.

Docket Numbers: LA12-4-000.

Applicants: APDC, Inc., Atlantic Power Energy Services (US) LLC, Auburndale Power Partners, L.P., Cadillac Renewable Energy, LLC, Canadian Hills Wind, LLC, Delta Person Limited Partnership Frederickson Power L.P., Lake Cogen, Ltd., Manchief Power Company LLC, Meadow Creek Project Company LLC, Morris Cogeneration, LLC, Pasco Cogen, Ltd., Piedmont Green Power, LLC, Rockland Wind Farm LLC, Burley Butte Wind Park, LLC, Camp Reed Wind Park, LLC, Golden Valley Wind Park, LL,; Milner Dam Wind Park, LLC, Oregon Trail Wind Park, LLC, Payne's Ferry Wind Park, LLC, Pilgrim Stage Station Wind Park, LLC, Salmon Falls Wind Park, LLC, Thousand Springs Wind Park, LLC, Tuana Gulch Wind Park, LLC, and Yahoo Creek Wind Park, LLC.

Description: Quarterly Land Acquisition Report of APDC, Inc., et al.

Filed Date: 1/25/13.

Accession Number: 20130125-5239.

Comments Due: 5 p.m. ET 2/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2013.
Nathaniel J. Davis, Sr.,
Deputy Secretary.

[FR Doc. 2013-02655 Filed 2-5-13; 8:45 am]

BILLING CODE 6717-01-P